DEPARTMENT OF COMMERCE

Office of the Under Secretary for Economic Affairs

Performance Review Board Membership

AGENCY: Office of the Under Secretary for Economic Affairs, Department of Commerce.

ACTION: Notice.

SUMMARY: The Office of the Under Secretary for Economic Affairs (OUSEA) announces the appointment of members who will serve on the OUSEA Performance Review Board (PRB). The PRB is responsible for reviewing the appraisals and ratings recommended by the senior employees' supervisors and written responses from the senior employee, if any, as well as any other reviews requested, to ensure that recommended ratings are supported and appropriate in the OUSEA, Bureau of Economic Analysis and the US Census Bureau. The PRB provides recommendations to the Appointing Authority regarding the objectives and operation of the SES and ST performance appraisal and reward systems, as required. The purpose of the PRB is to provide fair and impartial review of senior executive service and senior professional performance ratings, bonus and pay adjustment recommendations and Presidential Rank Award nominations. The term of each PRB member will expire on December 31, 2021.

DATES: The effective date of service of appointees to the OUSEA Performance Review Board is based upon publication of this notice.

FOR FURTHER INFORMATION CONTACT: Angela Jones-Wilson, Acting Program Manager, Executive Resources Office, Human Resources Division, Census Bureau, 4600 Silver Hill Road, Washington, DC 20233, 301-763-6302.

SUPPLEMENTARY INFORMATION: The names and position titles of the members of the PRB are set forth below:

John M. Abowd, Associate Director for Research and Methodology, Census Bureau

Ali M. Ahmad, Associate Director for Communications, Census Bureau

Mary E. Bohman, Deputy Director, Bureau of Economic Analysis

Gregory Capella, Deputy Director, National Technical Information Service

Paul Farello, Associate Director for International Economics, BEA

Albert Fontenot, Jr., Associate Director for Decennial Census, Census Bureau

Laura K. Furgione, Chief Administrative Officer, Census Bureau

Thomas F. Howells III, Associate Director for Industry Accounts, BEA

Kathleen James, Chief Administrative Officer, BEA

Ron Jarmin, Deputy Director, Census Bureau

Enrique Lamas, Senior Advisor to the Deputy Director, Census Bureau

Edith J. McCloud, Associate Director for Management, Minority Business Development Agency

Timothy Olson, Associate Director for Field Operations, Census Bureau

Nick Orsini, Associate Director for Economic Programs, Census Bureau

Benjamin J. Page, Chief Financial Officer, Census Bureau

Jeremy Pelter, Acting Deputy Under Secretary, Bureau of Industry and Security

Joel D. Platt, Associate Director for Regional Economics, BEA

Joseph Semsar, Deputy Under Secretary, International Trade Administration

Kevin Smith, Chief Information Officer, Census Bureau

Erich Strassner, Associate Director for National Economic Accounts, BEA

Victoria Velkoff, Associate Director for Demographic Programs, Census Bureau

David R. Ziaya, Chief, Office of Program, Performance and Stakeholder Performance, and Stakeholder Integration, Census Bureau

(Authority: 5 U.S.C. 4314(c)(4))

Mary E. Bohman,
Deputy Director, Bureau of Economic Analysis, Chair, OUS/EA Performance Review Board.

[FR Doc. 2020-23692 Filed 10-26-20; 8:45 am]

BILLING CODE 3510-BS-P